TENNESSEE VALLEY AUTHORITY

18 CFR Part 1307

Nondiscrimination With Respect to Handicap

CFR Correction

In Title 18 of the Code of Federal Regulations, parts 400 to End, revised as of April 1, 2015, on page 210, in § 1307.4, in paragraph (b)(2), remove the term “activities” and add in its place “aid, benefits, or services”.

[FR Doc. 2016-07549 Filed 3-31-16; 8:45 am]

BILLING CODE 1505-01-D